COMMODITY FUTURES TRADING COMMISSION

Agency Information Collection Activities: Notice of Intent To Renew Collection 3038-0051, Part 39 Derivatives Clearing Organizations

AGENCY: Commodity Futures Trading Commission.

ACTION: Notice of intent to renew.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments [if any].

DATES: Comments must be submitted on or before December 18, 2008.

FOR FURTHER INFORMATION CONTACT OR A COPY CONTACT: Lois Gregory, Commodity Futures Trading Commission, Division of Clearing and Intermediary Oversight, (202) 418-5569; Fax: (202) 418-5536; e-mail: lgregory@cftc.gov, and refer to OMB Control No. 3038-0051.

SUPPLEMENTARY INFORMATION: Title: Part 39 Derivatives Clearing Organizations (OMB Control No. 3038-0051). This is a request for extension of a currently approved information collection.

Abstract: The information collected pursuant to this rule is used to evaluate compliance with criteria pursuant to which entities apply for and obtain registration as a derivatives clearing organization.

An agency may not conduct or sponsor, and a person is not required to respond to, a collection of information unless it displays a currently valid OMB control number. The OMB control numbers for the CFTC's regulations were published on December 30, 1981. See 46 FR 63035 (Dec. 30,1981). The Federal Register notice with a 60-day comment period soliciting comments on this collection of information was published on September 9, 2008 (73 FR 52330).

Burden Statement: The respondent burden for this collection is estimated to average 200 hours per response. These estimates include the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: 10.

Estimated Number of Responses: 10.

Estimated Total Annual Burden on Respondents: 2,000.

Frequency of Collection: On Occasion.

Send comments regarding the burden estimated or any other aspect of the information collection, including suggestions for reducing the burden, to the addresses listed below. Please refer to OMB Control No. 3038-0051 in any correspondence.

Lois J. Gregory, Special Counsel, Division of Clearing and Intermediary Oversight, U.S. Commodity Futures Trading Commission, 1155 21st Street, NW., Washington, DC 20581; and Office of Information and Regulatory Affairs, Office of Management and Budget, Attention: Desk Officer for CFTC, 725 17th Street, NW., Washington, DC 20503.

Dated: November 13, 2008.
David A. Stawick,
Secretary of the Commission.

[FR Doc. E8-27346 Filed 11-17-08; 8:45 am]

BILLING CODE 6351-01-P